DEPARTMENT OF DEFENSE

Department of the Army; Corps of Engineers

Intent To Prepare a Joint Environmental Impact Statement/Environmental Impact Report for the Coyote Dam Study

AGENCY: Department of the Army, U.S. Army Corps of Engineers, DoD.

ACTION: Notice of intent.

SUMMARY: In accordance with Section 204 of the 1950 Flood Control Act (Pub. L. 516, 81st Congress, 2nd Session), as recommended by the Chief of Engineers in House Document Number 585, 81st Congress, 2nd Session, the Coyote Dam (also known as the “Lake Mendocino Project”), Ukiah, CA, is authorized to be raised 36 feet to a total storage capacity of 199,000 acre-feet (ac-ft) when the need for additional water supply arises. Since construction of Coyote Dam, increased development of Mendocino County and the accelerated rate of sedimentation in Lake Mendocino have resulted in the need for additional water supply. The additional storage capacity achieved by raising the dam would address future demands on water supply and also increase flood damage reduction functions. This is a notice of intent to prepare a joint environmental Impact Statement/Environmental Impact Report (EIS/EIR), and to consider all reasonable alternatives, evaluate potential impacts of the proposed action, and identify appropriate mitigation measures. The U.S. Army Corps of Engineers (Corps) is the lead agency for this project under the National Environmental Policy Act (NEPA), and the Mendocino County Inland Water and Power Commission (IWPC) is the lead agency and local sponsor under the California environmental quality Act (CEQA).

DATES: A public scoping meeting will be held on April 26, 2007 from 7 p.m. to 9 p.m.

ADDRESSES: The scoping meeting will be held at the Ukiah Valley Conference Center, Cabernet Room 1, 200 South School Street, Ukiah, CA 95482.

FOR FURTHER INFORMATION CONTACT: Questions about the proposed action can be answered by Karen Mason at (415) 503-6851, Karen.P.Mason@usace.army.mil; Susan Ma at (415) 503-6838, Susan.Ma@usace.army.mil; or by Chris Eng at (415) 503-6868, Christopher.K.Eng@usace.army.mil, U.S. Army Corps of Engineers, San Francisco District, 1455 Market Street, 15th Floor, San Francisco, CA 94103. Questions and comments can also be faxed to (415) 503-6692.

SUPPLEMENTARY INFORMATION: Coyote Dam is located on the East Fork of the Russian River, Ukiah, CA, and is part of a system that provides water to Mendocino, Sonoma, and Marin counties. The Congressional authorization for construction of Coyote Dam included provisions for increase in water storage capacity by raising the dam an additional 36 feet, thereby increasing the total storage capacity from 122,500 ac-ft to 199,000 ac-ft. The dam was designed to be built in two stages: the initial stage was completed in 1959, and the second stage would be built when water storage capacity became inadequate. The growth of Mendocino County has contributed to an expanded need for water in order to meet future demands. In addition, the accelerated rate of sedimentation in Lake Mendocino further impacts the storage capacity of the dam by encroaching on the water supply pool. The goal of the project is to provide increased water storage capacity and increased flood damage reduction benefits to the area. the local sponsor for the project is the Mendocino County Inland Water and Power Commission (IWPC), a Joint Powers Authority representing the County of Mendocino, the City of Ukiah, Mendocino County Russian River Flood Control and Water Conservation Improvement District, Redwood Valley County Water District, and the Potter Valley Irrigation District.

1. Proposed Action. Based on the need for additional water supply and flood damage reduction benefits, it is determined that increased water storage capacity at Coyote Dam should be evaluated.

2. Project Alternatives. The following are some of the alternatives that will be evaluated in the EIS/EIR:

a. Raise the dam. Following the original plans of the authorized project, the dam would be raised 36 feet to an elevation of 820 feet, increasing the storage capacity from 122,400 ac-ft to 199,000 ac-ft. Some provisions were made on various features of the existing dam to accommodate the future height increase.

b. Increase seasonal water supply storage elevation. Utilizing the existing dam and reservoir area, the water surface elevation of the flood control pool would be raised from 748.0 to 761.8 for seasonal use between April 1 and October 15. This would provide an additional 25,700 ac-ft of storage. Although the Corps has authority over the flood control pool, the Mendocino County IWPC must demonstrate that the extra storage capacity is needed for current demands and would not result in an excess storage of water, which would unnecessarily flood recreational areas and access roads situated at elevation 750.

c. Dredging. Of the original 122,400 ac-ft storage capacity, 4,400 ac-ft was allocated for sedimentation, but the capacity of Lake Mendocino has since decreased to 116,470 ac-ft. The rate of sedimentation is higher than the estimate provided by the original sediment study. This alternative would increase storage capacity by dredging sediment from the reservoir. Dredging is not expected to affect current reservoir operations.

3. Scoping Process. The Corps is seeking participation of all interested federal, state, and local agencies, Native American groups, and other concerned private organizations or individuals through this public notice. The public scoping meeting will be held in Ukiah, CA (see DATES). Any changes to the date, time, or location will be published in the newspaper or provided by mail to those requesting information. The purpose of the meeting is to solicit comments and questions regarding the potential impacts, environmental issues, and alternatives associated with the proposed action. Public participation will help to define the scope of the environmental analysis in the EIS/EIR; identify other significant issues; provide other relevant information; and recommend mitigation measures. The public comment period closes on May 10, 2007.

4. Availability of EIS. The public will have an additional opportunity to comment on project alternatives once the draft EIS/EIR is released.

Brenda S. Bowen,
Army Federal Register Liaison Officer.

[FR Doc. 07-1742 Filed 4-6-07; 8:45 am]

BILLING CODE 3710-19-M